DEPARTMENT OF THE INTERIOR

Fish and Wildlife Service

[FWS-HQ-MB-2019-N083; FF09M21200-190-FXMB1231099BPP0; OMB Control Number 1018-New]

Agency Information Collection Activities; Falconry Application Database

AGENCY: Fish and Wildlife Service, Interior.

ACTION: Notice of information collection; request for comment.

SUMMARY: In accordance with the Paperwork Reduction Act of 1995, we, the U.S. Fish and Wildlife Service (Service, we), are proposing a new information collection.

DATES: Interested persons are invited to submit comments on or before October 15, 2019.

ADDRESSES: Send your comments on the information collection request by mail to the Service Information Collection Clearance Officer, U.S. Fish and Wildlife Service, MS: JAO/1N PRB/PERMA, 5275 Leesburg Pike, Falls Church, VA 22041-3803 (mail); or by email to Info_Coll@fws.gov. Please reference OMB Control Number 1018-Falconry in the subject line of your comments.

FOR FURTHER INFORMATION CONTACT: To request additional information about this ICR, contact Madonna L. Baucum, Service Information Collection Clearance Officer, by email at Info_Coll@fws.gov, or by telephone at (703) 358-2503.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed information collection request (ICR) that is described below. We are especially interested in public comment addressing the following issues: (1) Is the collection necessary to the proper functions of the Service; (2) will this information be processed and used in a timely manner; (3) is the estimate of burden accurate; (4) how might the Service enhance the quality, utility, and clarity of the information to be collected; and (5) how might the Service minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Service collects information via permit applications to determine the eligibility of applicants for permits requested in accordance with the criteria in various Federal wildlife conservation laws and international treaties, including:

(1) Migratory Bird Treaty Act (16 U.S.C. 703 et seq.).

(2) Lacey Act (16 U.S.C. 3371 et seq.).

(3) Bald and Golden Eagle Protection Act (16 U.S.C. 668).

Service regulations implementing these statutes and treaties are in chapter I, subchapter B of title 50 of the Code of Federal Regulations (CFR). These regulations stipulate general and specific requirements that, when met, allow us to issue permits to authorize activities that are otherwise prohibited.

Beginning in 2014, the Service passed the authority to issue permits for the practice of falconry to individual States (50 CFR 21.29, 78 FR 72832). As part of this change in authority, we required States to maintain databases of falconers authorized to conduct falconry in their States and required falconers to report transfers of falconry birds using the paper version of FWS Form 3-186A. We require each State that maintains its own database to ensure that it is compatible with the Service's database. To date, 47 States utilize the system provided by the Service. The Service's database continues to track take of birds from the wild by falconers and to maintain records of persons permitted by the States to practice falconry, as required by 50 CFR 21.29(k)(1).

In 2018, the Service requested and received OMB approval under the Department of the Interior Fast Track generic clearance (OMB Control No. 1090-0011) to conduct usability testing of the revised/repaired application and database functionality. This new falconry database (database) replaced a legacy system based on outdated programming. It reduced the cost to the government by eliminating the need for Service personnel to enter data for each new falconer, and simply required the entry of data for State administrators. In addition, this new database enhances the user experience by allowing them to enter data from any device that has internet access, including PCs, tablets, and smart phones. This usability testing helped the Service to address problems and recommendations prior to the database going live. We are now ready to request full OMB approval of the database.

The database is a web-based application designed to monitor falconry activities throughout the United States. The process involves keeping track of falconry acquisitions and dispositions among falconry permit holders. This process requires falconer and/or propagator permit holders to report their activities by filling out electronic falconry applications.

Falconers and State administrators must register to use the database. States that participate in the falconry application must first contact the Service's Division of Migratory Birds located in Virginia to create a profile in the database. Each State is required to have at least one person acting as State representative or administrator. Information collected from States to create new falconer profiles includes the user's State, access role, and basic contact information.

A falconer must first apply for a falconry permit in his/her State. Once the permit is approved by the State permit issuing office, the State administrator will create the new falconer profile by entering the falconer's State, class, basic contact information, and permit information to include number, date issued, and expiration date into the database. Additionally, a falconer is required to notify his/her State 30 days in advance via email of any change in address or the location of the facilities where birds are held.

Title of Collection: Falconry Application Database.

OMB Control Number: 1018-New.

Form Number: FWS Form 3-186A (electronic).

Type of Review: New.

Respondents/Affected Public: Individuals/households and State governments.

Total Estimated Number of Annual Respondents: 40 (30 individuals, 10 State governments).

Total Estimated Number of Annual Responses: 40 (30 individuals, 10 State governments).

Estimated Completion Time per Response: 2.5 hours.

Total Estimated Number of Annual Burden Hours: 100 (75 hours for individuals, 25 hours for State governments).

Respondent's Obligation: Required to Obtain or Retain a Benefit.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Dated: August 7, 2019.
Madonna L. Baucum,
Information Collection Clearance Officer, U.S. Fish and Wildlife Service.

[FR Doc. 2019-17240 Filed 8-12-19; 8:45 am]

BILLING CODE 4333-15-P